DEPARTMENT OF HOMELAND SECURITY

Faith-Based Security Advisory Council; Correction

AGENCY: Office of Partnership and Engagement (OPE), Department of Homeland Security (DHS).

ACTION: Notice of new Federal Advisory Committee; correction.

SUMMARY: The Department of Homeland Security (DHS) is correcting a notice published on June 29, 2020. In error, this notice previously stated that a less than 15 day good cause justification was obtained. Instead, this notice should reflect its publishing will comply fully with the 15 day notice requirement.

DATES: The 15-day period described in 41 CFR 102-3.65(b) terminates 15 calendar days after the date of publication.

FOR FURTHER INFORMATION CONTACT: Traci Silas at FBSAC@hq.dhs.gov or at (202) 603-1142.

SUPPLEMENTARY INFORMATION:

Correction

In the Federal Register of June 29, 2020, in FR Doc. 2020-13882, on page 38916, in the second column, remove the paragraph stating “In accordance with 41 CFR 102-3.65(b), as requested by the Department, the General Services Administration Committee Management Secretariat has approved a period of less than 15 calendar days pursuant to the publication of this notice for the filing of the FBSAC Charter.”

Zarinah Traci Silas,
Senior Director and Alternate Designated Federal Official.

[FR Doc. 2020-14370 Filed 7-2-20; 8:45 am]

BILLING CODE 9112-FN-P